DEPARTMENT OF THE INTERIOR

Bureau of Land Management

[UT-930-01-1320-01]

Notice of Public Hearing and Call for Public Comment on Fair Market Value and Maximum Economic Recovery; Coal Lease Application UTU-78562; Whitmore Canyon Tract

AGENCY: Bureau of Land Management, Utah, Interior.

SUMMARY: The Bureau of Land Management (BLM) announces a public hearing concerning the proposed action of offering a Federal coal lease tract for competitive coal lease sale and requests public comment on the fair market value of the coal resources and acknowledgement of any environmental concerns concerning this proposed action. The lands included in the delineated Federal coal tract (Whitmore Canyon) are located in Carbon County, Utah, approximately 4 miles north of East Carbon City. The surface in this area is both private and BLM administered public land with the coal being Federally owned. The Whitmore Canyon track is described as follows:

T. 13 S., R. 13 E., SLM, Utah

Section 35: SE, S2SW;

T. 14 S., R. 13 E., SLM, Utah

Section 1: Lots 2-4, S2NW, SW, W2SE, SWNE;

Section 12: Lots 1-4, S@N2, SE, NESW;

Section 13: NENE;

T. 14 S., R. 14 E., SLM, Utah

Section 6: Lot 6;

Section 7: Lots 3 and 4;

Section 18: Lot 1, E2NW

Containing 1,646.34 acres more or less.

The Tract received application for a coal lease by Andalex Resources Inc. and the Intermountain Power Agency (a 50/50 joint ownership). The companies plan to mine the coal as an extension from their existing West Ridge Mining operating if the lease is obtained. The Whitmore Canyon Tract has one potentially minable coal seam which is the Upper Sunnyside Seam. The minable portions of the seam in this area are from 6 to 9 feet in thickness and average 8 feet. This tract contains an estimated 15-20 million tons of recoverable coal. In-place coal samples indicates the average coal quality as follows 12,682 Btu/lb., 7 percent moisture, 6.7 percent ash, and 1.02 percent sulfur. The public is invited to the hearing to make public or written comments on the environmental implications of leasing the proposed tract, and also to submit comments on the fair market value (FMV) and the maximum economic recovery (MER) of the tract.

SUPPLEMENTARY INFORMATION: In accordance with Federal coal management regulations 43 CFR 4322 and 4325, a public hearing shall be held on the proposed sale to allow public comment on and discussion of the potential effects of mining and proposed lease. Not less than 30 days prior to the publication of the notice of sale, the Secretary shall solicit public comments on fair market value appraisal and maximum economic recovery and on factors that may affect these two determinations. Proprietary data marked as confidential may be submitted to the Bureau of Land Management in response to this solicitation of public comments. Data so marked shall be treated in accordance with the laws and regulations governing the confidentiality of such information. A copy of the comments submitted by the public on fair market value and maximum economic recovery, except those portions identified as proprietary by the author and meeting exemptions stated in the Freedom of Information Act, will be available for public inspection at the Bureau of Land Management, Utah State Office during regular business hours (8:00 a.m. to 4:00 p.m.) Monday through Friday. Comments on fair market value and maximum economic recovery should be sent to the Bureau of Land Management and should address, but not necessarily be limited to, the following information:

1. The quality and quantity of the coal resource.

2. The mining method or methods which would achieve maximum economic recovery of the coal, including specifications of seams to be mined and the most desirable timing and rate of production.

3. The quantity of coal.

4. If this tract is likely to be mined as part of an existing mine and therefore be evaluated on a realistic incremental basis, in relation to the existing mine to which it has the greatest value.

5. If this tract should be evaluated as part of a potential larger mining unit and evaluated as a portion of a new potential mine (i.e., a tract which does not in itself form a logical mining unit).

6. The configuration of any larger mining unit of which the tract may be a part.

7. Restrictions to mining which may affect coal recovery.

8. The price that the mined coal would bring when sold.

9. Costs, including mining and reclamation, of producing the coal and the time of production.

10. The percentage rate at which anticipated income streams should be discounted, either in the absence of inflation or with inflation, in which case the anticipated rate of inflation should be given.

11. Depreciation and other tax accounting factors.

12. The value of any surface estate where held privately.

13. Documented information on the terms and conditions of recent and similar coal land transactions in the lease sale area.

14. Any comparable sales data of similar coal lands.

Coal quantities and the FMV of the coal developed by BLM may or may not change as a result of comments received from the public and changes in market conditions between now and when final economic evaluations are completed.

DATES: The public hearing will be held in the BLM Price Field Office located at 125 South, 600 West in Price, Utah, at 7:00 p.m. on November 14, 2000. Written comments on fair market value and maximum economic recovery must be received at the Bureau of Land Management, Utah State Office, by November 30, 2000.

FOR FURTHER INFORMATION CONTACT: Max Nielson, 801-539-4038, Bureau of Land Management, Utah State Office, Division of Natural Resources, P. O. Box 45155, Salt Lake City, Utah, 84145-0155.

Dated: October 6, 2000.
Ernest J. Eberhard,
Acting DSD, Natural Resources, Utah.

[FR Doc. 00-26305 Filed 10-30-00; 8:45 am]

BILLING CODE 4310-DQ-$$